DEPARTMENT OF COMMERCE

National Oceanic and Atmospheric Administration

RIN 0648-XG007

Atlantic Highly Migratory Species; Atlantic Bluefin Tuna Fisheries; Pelagic Longline Fishery Management

AGENCY: National Marine Fisheries Service (NMFS), National Oceanic and Atmospheric Administration (NOAA), Commerce.

ACTION: Notice of intent (NOI) to prepare a draft environmental impact analysis and hold scoping meetings; notice of availability of scoping document; request for comments.

SUMMARY: NMFS announces its intent to prepare a draft environmental impact analysis to assess the potential effects of alternative measures under the 2006 Consolidated Atlantic Highly Migratory Species Fishery Management Plan (2006 Consolidated HMS FMP) for management of the pelagic longline fishery. This notice announces a public process for determining the scope of issues to be addressed and for identifying the significant issues relating to the management of Atlantic HMS, with a focus on area-based management measures and weak hook management measures that were implemented to reduce dead discards of bluefin tuna in the pelagic longline fishery. NMFS would use the scoping process and the draft environmental impact analysis to develop a regulatory action applicable to the pelagic longline fishery. The scoping process and draft environmental impact analysis are intended to determine if existing area-based and weak hook management measures are the best means of achieving the current management objectives and providing flexibility to adapt to fishing variability in the future, consistent with the 2006 Consolidated HMS FMP, the Magnuson-Stevens Fishery Conservation and Management Act (Magnuson-Stevens Act), the Atlantic Tunas Convention Act (ATCA), and other relevant Federal laws. NMFS is also announcing the availability of a scoping document describing potential measures for inclusion in a future regulatory action. NMFS will hold scoping meetings to gather public comment on potential management options for area based and weak hook requirements. The time and location details of the scoping meetings are available in the SUPPLEMENTARY INFORMATION section of this notice. NMFS is requesting comments on the NOI to develop environmental impact assessments. NMFS also requests comments on the management options described in the scoping document concerning bluefin area-based management and weak hook measures that were implemented to minimize bluefin tuna bycatch and/or interactions, and relevant options that would meet the purpose and need for this action.

DATES: Written comments on this NOI and the scoping document must be received on or before May 1, 2018. NMFS also will host an operator-assisted public hearing conference call and webinar March 15, 2018, from 2 to 4 p.m. EDT, providing an opportunity for individuals from all geographic areas to participate in a scoping meeting. See SUPPLEMENTARY INFORMATION for further details, including public scoping meeting dates and locations.

ADDRESSES: You may submit comments, identified by “NOAA-NMFS-2018-0035”, by either of the following methods:

• Electronic Submission: Submit all electronic public comments via the Federal e-Rulemaking Portal. Go to www.regulations.gov/#!docketDetail;D=NOAA-NMFS-2018-00035, click the “Comment Now!” icon, complete the required fields, and enter or attach your comments.

• Mail: Craig Cockrell, Highly Migratory Species Management Division, Office of Sustainable Fisheries (F/SF1), NMFS, 1315 East-West Highway, Silver Spring, MD 20910.

Instructions: Comments sent by any other method, or to any other address or individual, or received after the end of the comment period, may not be considered. All comments received are a part of the public record and will generally be posted to http://www.regulations.gov without change. All Personal Identifying Information (e.g., name, address), confidential business information, or otherwise sensitive information submitted voluntarily by the sender will be publicly accessible. NMFS will accept anonymous comments (enter “N/A” in the required fields if you wish to remain anonymous).

The public hearing conference call information is phone number 800-988-9546; participant passcode 27079. Participants are strongly encouraged to log/dial in 15 minutes prior to the meeting. NMFS will show a brief presentation via webinar followed by public comment. To join the webinar, go to: https://noaaevents2.webex.com/noaaevents2/onstage/g.php?MTID=e7fc24f346f6d54043131fad6e040d4bd; meeting number: 992 830 164; password: noaa. Participants who have not used WebEx before will be prompted to download and run a plug-in program that will enable them to view the webinar.

The scoping document is available by sending your request to Craig Cockrell at the mailing address specified above, or by calling the phone numbers indicated below. The scoping document, the 2006 Consolidated HMS FMP, and FMP amendments also may be downloaded from the HMS website at https://www.fisheries.noaa.gov/topic/atlantic-highly-migratory-species.

FOR FURTHER INFORMATION CONTACT: Craig Cockrell 301-427-8503 or Jennifer Cudney 727-824-5399, or online at https://www.fisheries.noaa.gov/topic/atlantic-highly-migratory-species.

SUPPLEMENTARY INFORMATION:

Background

Regulations implemented under the authority of the Atlantic Tunas Convention Act (ATCA; 16 U.S.C. 971 et seq.) and the Magnuson-Stevens Fishery Conservation and Management Act (Magnuson-Stevens Act; 16 U.S.C. 1801 et seq.) governing the harvest of HMS, including bluefin tuna, by persons and vessels subject to U.S. jurisdiction are found at 50 CFR part 635. The pelagic longline fishery for Atlantic HMS primarily targets swordfish, yellowfin tuna, and bigeye tuna in various areas and seasons. In 1997, NMFS determined that the western Atlantic bluefin tuna stock was overfished. In addition, the 1998 International Commission for the Conservation of Atlantic Tunas (ICCAT) Recommendation on western Atlantic bluefin tuna required that Contracting Parties, including the United States, minimize dead discards of bluefin tuna to the extent practicable, and set a country-specific dead discard allowance. Given the status of bluefin tuna and recommendations from ICCAT, at that time, NMFS analyzed a range of different time/area options for locations with high bluefin tuna bycatch in the 1999 FMP for Atlantic tunas, sharks, and swordfish (1999 HMS FMP), and subsequently implemented the Northeastern United States Pelagic Longline Closed Area, which is effective annually from June 1 through June 30, in the final rule implementing the 1999 HMS FMP (64 FR 29090, May 28, 1999) to reduce bluefin tuna dead discards in the pelagic longline fishery. In 2006, NMFS finalized the 2006 Consolidated Atlantic HMS FMP, which was intended to simplify management and better coordinate domestic conservation and management of Atlantic HMS. This Consolidated HMS FMP also carried forward many of the objectives of the 1999 FMP for Atlantic tunas, sharks and swordfish (e.g., reduce dead discard and post-release mortality of Atlantic HMS in directed and non-directed fisheries; reduce bycatch and bycatch mortality). In the 2006 Consolidated HMS FMP, NMFS also recognized the importance of western Atlantic bluefin tuna spawning grounds in the Gulf of Mexico and considered alternatives that would provide additional protection or incentives to dissuade fishermen from keeping incidentally caught bluefin. Weak hooks have been mandatory in the Gulf of Mexico pelagic longline fishery since 2011 (76 FR 18653, April 5, 2011). Weak hooks straighten under pressure and research conducted from 2007-2015 showed weak hook use could decrease bluefin tuna catch by 46 to 56.5 percent in the Gulf of Mexico. Continued reductions of bluefin tuna catch in the Gulf of Mexico pelagic longline fishery have been observed since the implementation of weak hooks. Amendment 7 to the 2006 Consolidated HMS FMP (79 FR 71510, December 2, 2014) implemented several measures for the pelagic longline fishery including, but not limited to, gear restricted areas, individual bluefin tuna quotas (IBQ), and catch reporting of each pelagic longline set using vessel monitoring systems.

Since implementation of Amendment 7 in 2015, NMFS has noted decreased bluefin tuna landings and dead discards concurrent with the new focus on vessel accountability in fishing practices. However, effort within the pelagic longline fishery has also decreased and quotas established for target species (e.g., swordfish) are not being met. We presented a range of potential management issues and options for consideration at recent Advisory Panel meetings that might: (1) Optimize the ability of permit categories to harvest target species and still meet goals consistent with rebuilding and management plans and other species management objectives; and (2) revitalize the target longline fisheries, including increased swordfish landings within existing quotas. We specifically received comments from pelagic longline participants and other interested parties, including comments at the Spring and Fall 2017 Atlantic HMS Advisory Panel meetings, to examine whether older fleet-wide measures such as gear requirements, area restrictions, or time/area closures may no longer be necessary to reduce bluefin tuna bycatch and still meet the objectives of the Amendment 7. The HMS Advisory Panel expressed support for the continued development of management options to be presented at the Spring 2018 Advisory Panel meeting.

Scoping Process

NMFS encourages participation, by all persons affected or otherwise interested in bluefin tuna area-based and weak hook management measures, in the process to determine the scope and significance of issues to be analyzed in a draft environmental impact analysis and regulatory action. All such persons are encouraged to submit written comments (see ADDRESSES), or comment at one of the scoping meetings or public webinar. Persons submitting comments are welcome to address the specific measures in the scoping document.

NMFS intends to hold scoping meetings in the geographic areas that may be affected by these measures, including locations on the Atlantic and Gulf of Mexico coasts, and will consult with the regional fishery management councils in the Atlantic and Gulf of Mexico. After scoping has been completed and public comment gathered and analyzed, NMFS will determine if it is necessary to proceed with preparation of a draft environmental impact analysis and proposed rule, which would include additional opportunities for public comment. The scope of the draft environmental impact analysis would consist of the range of actions, alternatives, and impacts to be considered. Alternatives may include, but are not limited to, the following: Not amending the current regulations (i.e., taking no action); developing a regulatory action that contains management measures such as those described in the scoping document; or other reasonable courses of action. This scoping process also will identify, and eliminate from further detailed analysis, issues that may not meet the purpose and need of the action. NMFS expects to present the scoping document at the Spring 2018 HMS Advisory Panel meeting, the scheduled scoping meetings and webinar, and the regional fishery management councils, as listed in Table 1.

Table 1—Locations, Dates, and Times of Upcoming Scoping Meetings and Council Presentations
Date | Time | Meeting location | Address
March 8, 2018 | TBD | HMS Advisory Panel Meeting | Sheraton Silver Spring Hotel, 8777 Georgia Ave., Silver Spring, MD 20910.
March 13, 2018 | 2:00-4:00 p.m | Public Webinar | Teleconference line: 800-988-9546, Participant pass code: 27079, Webinar Link: https://noaaevents2.webex.com/noaaevents2/onstage/g.php?MTID=e7fc24f346f6d54043131fad6e040d4bd, Event number: 992 830 164, Event password: noaa.
March 15, 2018 | 4:00 p.m.-8:00 p.m | Panama City, FL | National Marine Fisheries Service, Southeast Fisheries Science Center, 3500 Delwood Beach Road, Saint Panama City, FL 32408.
March 21, 2018 | 4:00 p.m.-8:00 p.m | Manteo, NC | Commissioners Meeting Room, Dare County Administration Building, 954 Marshall Collins Dr., Manteo, NC 27954.
April 2, 2018 | 5:00 p.m.-7:00 p.m | Houma, LA | Terrebonne Parish Main Library, Large Conference Room, 151 Library Drive, Houma, LA 70360.
April 12, 2018 | 4:00 p.m.-8:00 p.m | Manahawkin, NJ | Stafford Branch Public Library, 129 N Main St., Manahawkin, NJ 08050.
April 18, 2018 | 5:00 p.m.-7:00 p.m | Gloucester, MA | National Marine Fisheries Service, Grater Atlantic Regional Office, 55 Great Republic Dr., Gloucester, MA 01930.

The public is reminded that NMFS expects participants at public scoping meetings and on conference calls to conduct themselves appropriately. At the beginning of the scoping meetings and conference call, a representative of NMFS will explain the ground rules (e.g., all comments are to be directed to the Agency; attendees will be called to give their comments in the order in which they registered to speak; each attendee will have an equal amount of time to speak; and attendees should not interrupt one another). The meeting locations will be physically accessible to people with disabilities. Requests for sign language interpretation or other auxiliary aids should be directed to Craig Cockrell at 301-427-8503, at least 7 days prior to the meeting. A NMFS representative will attempt to structure the meeting so that all attending members of the public will be able to comment if they so choose, regardless of the controversial nature of the subject matter. If attendees do not respect the ground rules they will be asked to leave the scoping meeting or conference call.

Because the rulemakings overlap for some gear types, the public scoping meetings being held in Panama City, FL, Manteo, NC, and Manahawkin, NJ will be held in conjunction with public scoping meetings for Amendment 11 to the 2006 Consolidated Atlantic HMS FMP (shortfin mako shark management measures). The Amendment 11 presentation will likely be given first unless polling of the audience indicates another approach is appropriate. After each presentation, public comment for that issue will be received. Meeting attendees interested in this issue are encouraged to show up at the beginning of the meeting to help determine the order of the presentations. The second presentation will not start any later than 6 p.m.

The process of developing a regulatory action is expected to take approximately two years. In addition to future HMS Advisory Panel input, public comment and future analyses, there are other relevant events anticipated that may impact the development of this regulatory action, including implementation of a quota rule for Atlantic bluefin tuna and North Atlantic albacore, the three-year review of the IBQ program, and the ICCAT annual meeting in November 2018.

Until the draft environmental impact analysis and proposed rule are finalized or until other regulations are put into place, the current regulations remain in effect.

Authority: 16 U.S.C. 971 et seq.; 16 U.S.C. 1801 et seq.

Dated: February 27, 2018.
Jennifer M. Wallace,
Acting Director, Office of Sustainable Fisheries, National Marine Fisheries Service.

[FR Doc. 2018-04315 Filed 3-1-18; 8:45 am]

BILLING CODE 3510-22-P